FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
002375F | Action Customs Expediters, Inc., 115 Christopher Columbus Dr., Jersey City, NJ 07302 | March 30, 2009.
020655N | Quest Cargo, Inc., 8412 NW. 70th Street, Miami, FL 33166 | March 30, 2009.

Sandra L. Kusumoto,
Director, Bureau of Certification and Licensing.

[FR Doc. E9-11181 Filed 5-12-09; 8:45 am]

BILLING CODE 6730-01-P